DEPARTMENT OF ENERGY

[FE Docket Nos. PP-234 and PP-235]

Notice of Intent To Prepare an Environmental Impact Statement and To Conduct Public Scoping Meetings and Notice of Floodplain and Wetlands Involvement; Baja California Power, Inc., and Sempra Energy Resources

AGENCY: Department of Energy (DOE).

ACTION: Notice of intent to prepare an environmental impact statement (EIS) and to conduct public scoping meetings.

SUMMARY: Baja California Power, Inc. (BCP) and Sempra Energy Resources (SER) were issued Presidential permits by DOE to separately construct double-circuit 230,000-volt (230-kV) electric transmission lines across the U.S. border with Mexico. In addition, right-of-way grants were issued to each company by the Department of the Interior's Bureau of Land Management (BLM) for construction of the domestic portion of both transmission lines on Federal land. The transmission lines originate at new powerplants in Mexico, pass west of Calexico, California, and terminate at San Diego Gas & Electric Company's (SDG&E's) Imperial Valley Substation near El Centro, California. Under the National Environmental Policy Act of 1969 (NEPA), DOE and its cooperating agency in that proceeding, BLM, prepared an environmental assessment (EA) and findings of no significant impact (FONSIs) prior to issuance of the Presidential permits and right-of-way grants. On May 2, 2003, the United States District Court for the Southern District of California held that the EA and the FONSI did not comply with NEPA, and, on July 8, 2003, the court sent the matter back to the respective agencies for additional NEPA review.

The purpose of this notice of intent is to inform the public that DOE will now prepare an environmental impact statement (EIS) addressing BCP's and SER's projects and conduct two public scoping meetings. Although the two transmission lines have been constructed and are in service, DOE will, in accordance with the court's July 2003 order, conduct this NEPA review as if the transmission lines did not exist. BLM will be a cooperating agency.

DOE and BLM invite public participation in the scoping process and solicit public comments for consideration in establishing the scope and content of the EIS. Because the projects involve action in a floodplain, the EIS will include a floodplain assessment and floodplain statement of findings in accordance with DOE regulations for compliance with floodplain and wetlands environmental review (10 CFR part 1022).

DATES: DOE and BLM invite interested agencies, organizations, and members of the public to submit comments or suggestions to assist in identifying significant environmental issues and in determining the appropriate scope of the EIS. The public scoping period starts with the publication of this notice in the Federal Register and will continue until December 1, 2003. Written and oral comments will be given equal weight, and DOE will consider all comments received or postmarked by December 1, 2003, in defining the scope of this EIS. Comments received or postmarked after that date will be considered to the extent practicable.

Public scoping meetings will be held on November 20, 2003, in El Centro, California, from 12 p.m. until 3 p.m. and in Calexico, California, from 5 p.m. until 8 p.m.

Requests to speak at a public scoping meeting(s) should be received by Mrs. Ellen Russell at the address indicated below on or before November 13, 2003. Requests to speak may also be made at the time of registration for the scoping meeting(s). However, persons who submitted advance requests to speak will be given priority if time should be limited during the meeting.

ADDRESSES: One copy of written comments or suggestions on the scope of the EIS and requests to speak at the scoping meeting(s) should be addressed to: Mrs. Ellen Russell, Office of Fossil Energy (FE-27), U.S. Department of Energy, 1000 Independence Avenue, SW., Washington, DC 20585-0350, Phone 202-586-9624, facsimile: 202-287-5736, or electronic mail at Ellen.Russell@hq.doe.gov.

The scoping meetings will be held at the City Hall of El Centro, located at 1275 W. Main Street, and the City of Calexico City Hall, located at 608 Heber Street.

FOR FURTHER INFORMATION CONTACT: For information on the proposed projects or to receive a copy of the Draft EIS when it is issued, contact Mrs. Russell at the address listed in the ADDRESSES section of this notice or:

Lynda Kastoll, Bureau of Land Management, U.S. Department of the Interior, 1661 South Fourth Street, El Centro, CA 92243, Phone: 760-337-4421, facsimile: 760-337-4490, or electronic mail at lkastoll@ca.blm.gov.

For general information on the DOE NEPA review process, contact: Carol M. Borgstrom, Director, Office of NEPA Policy and Compliance (EH-42), U.S. Department of Energy, 1000 Independence Avenue, SW., Washington, DC 20585-0119, Phone: 202-586-4600 or leave a message at 800-472-2756; facsimile: 202-586-7031.

SUPPLEMENTARY INFORMATION:

Background on Transmission Projects

Executive Order 10485, as amended by Executive Order 12038, requires that a Presidential permit be issued by DOE before electric transmission facilities may be constructed, operated, maintained, or connected at the U.S. international border. The Executive Order provides that a Presidential permit may be issued after a finding that the proposed project is consistent with the public interest. In determining consistency with the public interest, DOE considers the impacts of the project on the reliability of the U.S. electric power system and on the environment in the United States. The regulations implementing the Executive Order have been codified at 10 CFR 205.320-205.329.

On February 27, 2001, BCP, a special purpose company and wholly-owned subsidiary of InterGen Aztec Energy V, B.V., and an indirect subsidiary of InterGen N.V., a Dutch limited liability company, filed an application with the Office of Fossil Energy (FE) of DOE for a Presidential permit. BCP proposed to construct a double-circuit 230-kV transmission line across the U.S.-Mexico international border. In a separate but similar proceeding, SER applied to DOE for a Presidential permit on March 7, 2001. SER, a non-regulated generating company, also proposed to construct a double-circuit 230-kV transmission line across the U.S.-Mexico international border.

In each of these projects, the applicants proposed to use the international transmission lines to connect separate powerplants located in Mexico to the SDG&E Imperial Valley Substation. Within the United States, both transmission lines were proposed to be constructed on BLM land parallel to an existing SDG&E 230-kV transmission line (IV—La Rosita line) connecting the Imperial Valley Substation with Mexico's La Rosita Substation. BCP and SER both also applied to BLM for right-of-way grants in order to be able to construct their respective projects on this Federal land.

BCP Powerplant and Transmission Line Project. In its application, BCP proposed to construct and operate a double-circuit 230-kV transmission line that would originate at the La Rosita Power Complex (LRPC), located 10 miles west of Mexicali, Mexico, and extend north for approximately 3 miles where it would cross the Mexico-U.S. border west of Calexico, California. From the border, the line would extend approximately 6 miles on Federal land managed by BLM and terminate at the SDG&E Imperial Valley Substation. The LRPC contains four generating units that total 1060 megawatts (MW) of generating capacity. Two 250-MW generating units were developed at the request of the Mexican national electric utility, Comision Federal de Electricidad (CFE), and the electrical output of those two units is designated for use within Mexico. The electrical output (560 MW) of the two remaining generating units is designated for export to the United States. The electrical output (250 MW) of one of these generating units, owned by Energia Azteca X, S. de R.L. de C.V., could be exported to the U.S. over either the pre-existing IV—La Rosita line or the new BCP 230-kV line that is the subject of this EIS. The electrical output (310 MW) of the other unit designated for export to the U.S., owned by Energia de Baja California, could only be exported to the U.S. over the proposed BCP 230-kV line. The BCP application, including associated maps and drawings, can be downloaded in its entirety from the FE Web site (http://www.fe.doe.gov; choose “Electricity Regulation,” then “Pending Proceedings”).

SER Powerplant and Transmission Line Project. In its application, SER proposed to construct a double-circuit 230-kV transmission line that would originate at a 500-MW electric powerplant being developed by Termoelectrica de Mexicali (TDM) near Mexicali, Mexico, and extend north approximately 3 miles to the Mexico-U.S. border. From the border, the transmission line would extend approximately 6 miles on Federal land managed by the BLM and terminate at the SDG&E Imperial Valley Substation. The SER application, including associated maps and drawings, also can be downloaded in its entirety from the FE Web site given above.

Background on Prior NEPA Review

DOE and BLM originally determined the appropriate level of NEPA environmental review for both the BCP and SER proceedings to be an environmental assessment (EA). DOE and BLM prepared a single EA that assessed the potential environmental impacts that would accrue in the United States from the two transmission lines and from the operation of the two related Mexican powerplants. In December 2001, DOE and BLM issued the “Environmental Assessment for Presidential Permit Applications for Baja California Power, Inc. and Sempra Energy Resources” (DOE/EA-1391). DOE relied on this EA to issue, on December 5, 2001, a FONSI and Presidential permits to both BCP and SER authorizing each to construct, operate, maintain, and connect electric transmission facilities crossing the international border between the United States and Mexico. BLM issued two FONSIs based upon the EA for the projects on December 19, 2001, and two Decision Records to grant the rights-of-way on December 20, 2001. The text of the EA and the DOE FONSI based upon it may also be found on the FE Web site listed above.

After the filing of the two Presidential permit applications, the maximum capacity of the TDM powerplant was increased from 500 MW to 600 MW. The analysis contained in the EA reflected this higher capacity. Subsequent to the issuance of the FONSIs, the two Presidential permits, and the two right-of-way grants, the two 230-kV transmission lines were placed into operation. Also, since issuance of the FONSIs, the developers of the LRPC powerplant have committed to install selective catalytic reduction technology on the remaining two units of the facility, the portion designated to generate power for Mexico. The equipment, which has been already ordered, is scheduled to be installed by the first quarter of 2006.

BCP completed construction of its transmission lines in September 2002 and placed the Mexican powerplants in commercial operation to export electricity to California on July 25, 2003. SER completed construction of its transmission lines in February 2003 and placed the Mexican powerplant in commercial operation to export electricity to California in July 2003.

On March 19, 2002, the Border Power Plant Working Group (Border Power) sued the DOE and BLM in the United States District Court for the Southern District of California (Case No. 02-CV-513-IEG (POR)) alleging violations of NEPA and the Administrative Procedure Act. Border Power sought to have the EA, DOE FONSI, Presidential permits, and right-of-way grants determined to be illegal and requested an injunction forbidding the use of the transmission lines to import electricity from the powerplants into California. After briefing and argument, the court issued two Orders. On May 2, 2003, the court held that the EA and the FONSI did not comply with NEPA. On July 8, 2003, the court sent the matter back to DOE and BLM for additional NEPA review consistent with the May and July Orders. The court declined to enjoin operation of the transmission lines immediately, but instead deferred the setting aside of the Presidential permits and the FONSI until July 1, 2004, or until such time as superseding NEPA documents and permits are issued, whichever is earlier. (Material related to the Federal suit and the court's orders can be found on the FE Web site given above.)

In light of the concerns raised by the court in its decisions, and to increase opportunities for public and stakeholder participation in the environmental review of this proposal, DOE and BLM have decided to prepare an EIS.

Agency Purpose and Need, Proposed Action, and Alternatives

An agency's analysis of the proposed action and alternatives to that proposal is said to be the heart of an EIS. The analysis is intended to present the environmental impacts of the proposal in the United States and the alternatives in comparative form, thereby sharpening and defining the issues and providing a clear basis for choice by the decision maker and the public. The agency's alternatives should reflect the range of reasonable decisions consistent with the purpose and need for action. DOE and BLM also desire to comply with the court's orders. In its July 8, 2003, Order remanding this matter back to the respective agencies for additional NEPA review, the court stated:

Finally, the court PROHIBITS the federal defendants from considering the interim operation of the transmission lines, the completion of the construction, or this Court's equitable analysis of the environmental impacts of the proposed actions as part of the NEPA analysis and determination process on remand. Cf. Northern Cheyenne Tribe v. Hodel, 851 F.2d 1152, 1157 (9th Cir. 1988). (Emphasis in original.)

DOE and BLM have interpreted this language to require that they are to conduct their NEPA review from a fresh slate, i.e., as if the transmission lines did not exist. Accordingly, DOE and BLM will base their EIS analysis on the same purpose and need as they did originally: whether to grant or deny Presidential permits and rights-of-way to BCP and SER.

In order to consider the complete range of reasonable alternatives, DOE and BLM propose the following preliminary alternatives:

1. No Action Alternative: Deny both permit and corresponding rights-of-way applications. This will present the environmental impacts in the United States as if the lines had never been constructed and will provide a baseline against which the impacts in the United States of the action alternatives can be measured in the absence of Presidential permits and corresponding rights-of-way.

2. Grant one or both permits and corresponding right(s)-of-way. This will set forth the impacts in the United States of constructing and operating the line(s) from Mexican powerplants, as those plants are presently designed. This is DOE's and BLM's preferred alternative.

3. Alternative technologies: Grant one or both permits and corresponding right(s)-of-way to authorize transmission lines that connect to powerplants that employ more efficient emissions controls and alternative cooling technologies, such as “dry cooling” or a combination of wet and dry cooling that will minimize environmental and health impacts in the United States.

4. Mitigation measures: Grant one or both permits and corresponding right(s)-of-way to authorize transmission lines whose developers employ off-site mitigation measures to minimize environmental impacts in the United States. (For example, off-site mitigation could include off-sets, such as paving roads and retiring older automobiles.)

DOE and BLM also propose to consider alternative routes for the transmission lines within the United States under the action alternatives described above.

Because DOE and BLM have proceeded here from the assumption that no lines now exist, this EIS will not address the environmental impacts in the United States of removing the existing transmission lines and poles from BLM lands. Should permits and rights-of-way not be granted, the issue of whether to remove the existing lines from BLM lands will arise and the impacts in the United States from that action would have to be considered in appropriate future NEPA review.

DOE and BLM invite all stakeholders and the public to comment on these alternatives during the scoping period and to offer other alternatives for consideration. DOE and BLM can and have in the past added to their list of alternatives in an EIS if they deem that review of an alternative brought to their attention during scoping is reasonable, appropriate, and furthers the purposes of NEPA review, that is, produces useful information for the decision maker and the public.

Identification of Environmental Issues

One purpose of this notice is to solicit comments and suggestions for consideration in the preparation of the EIS. In addition to the issues identified by the court ((1) the potential for public controversy; (2) water impacts; (3) impacts from ammonia and carbon dioxide; (4) the range of alternatives; and (5) cumulative impacts), DOE and BLM propose to analyze the following potential environmental issues:

1. Impacts on protected, threatened, endangered, or sensitive species of animals or plants, or their critical habitats in the United States (e.g., the Flat-Tailed Horned Lizard);

2. Impacts on floodplains and wetlands in the United States;

3. Impacts on cultural or historic resources in the United States;

4. Impacts on human health and safety in the United States;

5. Impacts on air, soil, and water resources in the United States (e.g., the Salton Sea and the New River);

6. Visual impacts in the United States; and

7. Disproportionately high and adverse impacts on minority and low-income populations in the United States.

This list is not intended to be all-inclusive or to imply any predetermination of impacts, and we invite interested parties to suggest other issues to be considered.

DOE and BLM welcome and invite Border Power and all who participated in the litigation to participate in scoping to assist DOE and BLM in identifying issues that they believe the agencies should address in their EIS.

Scoping Process

Interested parties are invited to participate in the scoping process both to refine the preliminary alternatives and environmental issues to be analyzed in depth, and to eliminate from detailed study those alternatives and environmental issues that are not feasible or pertinent. The scoping process is intended to involve all interested agencies (Federal, State, county, and local), public interest groups, Native American tribes, businesses, and members of the public. Both oral and written comments will be considered and given equal weight by DOE and BLM.

Public scoping meetings will be held at the locations, dates, and times indicated above under the DATES and ADDRESSES sections. These scoping meetings will be informal. The presiding officer will establish procedures to ensure that everyone who wishes to speak has a chance to do so and that DOE and BLM understand all issues and comments. Speakers will be allocated approximately 10 minutes for their oral statements. Depending upon the number of persons wishing to speak, the presiding officer may allow longer times for representatives of organizations. Consequently, persons wishing to speak on behalf of an organization should identify that organization in their request to speak. Persons who have not submitted a request to speak in advance may register to speak at the scoping meeting(s), but advance requests are encouraged. If a speaker wishes to provide for the record further information that cannot be presented within the designated time, such additional information may be submitted in writing by the date listed in the DATES section. Meetings will begin at the times specified and will continue until all those present who wish to participate have had an opportunity to do so.

Draft EIS Schedule and Availability

In its order, the court stated that it would defer until July 1, 2004, the setting aside of the Presidential permits and the FONSI, and has ordered DOE and BLM to seek a hearing date on or before May 15, 2004, to brief these issues. DOE and BLM intend to prepare and issue a final EIS before May 15, 2004, so that it is available for the court's review.

The Draft EIS is presently scheduled to be issued by early 2004, at which time its availability will be announced in the Federal Register and local media, and public comments will be solicited on the Draft.

People who do not wish to submit comments or suggestions at this time but who would like to receive a copy of the Draft EIS for review and comment when it is issued should notify Mrs. Russell at the address in the ADDRESSES section of this notice. DOE and BLM will publish the Draft both on paper and as a compact disc. In addition, DOE will make the Draft available on the World Wide Web at http://tis.eh.doe.gov/nepa/documentspub.html.

The Draft EIS will be made available for public inspection in several locations in the vicinity of the project. A notice of these locations will be provided in the Federal Register and local media at a later date.

Issued in Washington, DC, on October 24, 2003.
Beverly A. Cook,
Assistant Secretary, Environment, Safety and Health.

[FR Doc. 03-27234 Filed 10-29-03; 8:45 am]

BILLING CODE 6450-01-P